DEPARTMENT OF HOMELAND SECURITY

Federal Emergency Management Agency

[Docket ID: FEMA-2013-0035; OMB No. 1660-0089]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before January 13, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: FEMA Mitigation Success Story Database.

Type of Information Collection: Extension, without change, of a currently approved information collection.

OMB Number: 1660-0089.

Form Titles and Numbers: FEMA Form 086-0-25, Mitigation Best Practice Submission Worksheet.

Abstract: FEMA uses the information provided through success stories to document and disseminate first-hand experiences of mitigation activities that result in benefits to individuals. By sharing information, communities, individuals, and the affected public can learn about available Federal programs to support the implementation of noteworthy local activities that lessen the chance of a catastrophic event causing damage or possibly loss of life.

Affected Public: Individuals or households; State, local or Tribal Government.

Estimated Number of Respondents: 50.

Estimated Total Annual Burden Hours: 88 hours.

Estimated Cost: The estimated annual cost to respondents for the hour burden is $2,711.28. There are no annual costs to respondents' operations and maintenance costs for technical services. There is no annual start-up or capital costs. The cost to the Federal Government is $75,190.00.

Dated: December 4, 2013.
Charlene D. Myrthil,
Director, Records Management Division, Mission Support Bureau, Federal Emergency Management Agency, Department of Homeland Security.

[FR Doc. 2013-29655 Filed 12-11-13; 8:45 am]

BILLING CODE 9110-11-P